DEPARTMENT OF COMMERCE

Bureau of the Census

[Docket Number 010209034-2188-06]

Qualifying Urban Areas for Census 2000; Correction

AGENCY: Bureau of the Census, Department of Commerce.

ACTION: Notice.

SUMMARY: On May 1, 2002 (67 FR 21962), the Bureau of the Census (Census Bureau) published a Federal Register Notice listing the areas that qualified as urbanized areas and urban clusters based on the results of Census 2000. The Census Bureau is correcting the lists of urbanized areas and urban clusters, and also is modifying the area and population of a few urbanized areas and urban clusters by adding small amounts of territory to selected urbanized areas and urban clusters. Most of the corrections are the results of clerical errors.

EFFECTIVE DATE: August 23, 2002.

FOR FURTHER INFORMATION CONTACT: Robert Marx, Chief, Geography Division, U.S. Census Bureau, 4700 Silver Hill Road, Stop 7400, Washington, DC 20233-7400; telephone (301) 457-2131; e-mail at: ua@geo.census.gov.

SUPPLEMENTARY INFORMATION: On May 1, 2002 (67 FR 21962), the Census Bureau published a Federal Register Notice listing the areas that qualified as urbanized areas and urban clusters based on the results of Census 2000. The Census Bureau is correcting the lists of urbanized areas and urban clusters, and also is modifying the area and population of a few urbanized areas and urban clusters by adding small amounts of territory to selected urbanized areas and urban clusters.

The Census Bureau is providing the following corrections to the original Notice.

Page 21963, Column 1, Section A.1.: The Census Bureau is removing Hagåtña, GU, from the list of new urbanized areas and designating the area as an urban cluster. The Census Bureau is making this correction as a result of a correction to the “Urban Area Criteria for Census 2000” notice (67 FR 11663; March 15, 2002). The criteria correction is being published in a separate Notice in this issue of the Federal Register. The criteria correction, which affects only Guam, excludes the criterion for designating urbanized areas in Guam and allows urban clusters in Guam to have a population of 50,000 or more.

Page 21963, Column 1, Section A.1.: The Census Bureau is adding Hanford, CA, to the list of new urbanized areas. The Hanford, CA, Urbanized Area includes the area of the former Census 2000 Hanford, CA, Urban Cluster and the Lemoore, CA, Urban Cluster. The Census Bureau is making this correction to resolve a clerical error.

Page 21963, Column 3, Section A.3.: The Census Bureau is merging the previously identified San Rafael—Novato, CA, Urbanized Area with the San Francisco—Oakland, CA, Urbanized Area. The text will now read, “Concord, CA; Livermore, CA; San Francisco—Oakland, CA; and Vallejo, CA (San Francisco—Oakland, CA).” The Census Bureau is making this correction to resolve a clerical error.

Page 21963, Column 3, Section A.5.: The text for the Anchorage, AK, note incorrectly referenced the “Northwest Anchorage, AK urban cluster (UC).” The urban cluster name is Anchorage Northeast. The text is corrected to read “Anchorage, AK: does not include the separate Anchorage Northeast, AK urban cluster (UC), which was defined from part of the 1990 census UA.” The Census Bureau is making this correction to resolve a clerical error.

Page 21965, Column 3, Section B., List of Urbanized Areas: “Denver—Aurora, CO 1,984,887” is corrected to read “Denver—Aurora, CO 1,984,889.” This correction is made to resolve a clerical error.

Page 21966, Column 1, Section B., List of Urbanized Areas: “Fort Collins, CO 206,633” is corrected to read “Fort Collins, CO 206,757.” This correction is being made to resolve a clerical error.

Page 21966, Column 1, Section B., List of Urbanized Areas: Delete “Hagåtña, GU 132,241” from the list of urbanized areas. The Census Bureau is making this correction as a result of a correction to the “Urban Area Criteria for Census 2000” notice (67 FR 11663; March 15, 2002). The correction Notice changes the designation of Hagåtña, GU, from an urbanized area to an urban cluster. The criteria correction is being published in a separate Notice in this issue of the Federal Register.

Page 21966, Column 1, Section B., List of Urbanized Areas: Add “Hanford, CA 69,639” to the list of urbanized areas. This correction is made to resolve a clerical error.

Page 21966, Column 1, Section B., List of Urbanized Areas: “Holland, MI 91,795” is corrected to read “Holland, MI 91,921.” This correction is made to resolve a clerical error.

Page 21967, Column 1, Section B., List of Urbanized Areas: “San Francisco—Oakland, CA 2,995,769” is corrected to read “San Francisco—Oakland, CA 3,228,605.” This correction is made to resolve a clerical error and reflects the merging of the previously identified San Rafael—Novato, CA Urbanized Area with the San Francisco—Oakland, CA Urbanized Area.

Page 21967, Column 1, Section B., List of Urbanized Areas: Delete “San Rafael—Novato, CA 232,836” from the list of urbanized areas. This change is being made to resolve a clerical error and reflects the merger of this previously identified area with the San Francisco—Oakland, CA Urbanized Area.

The Census Bureau is providing the following additional information. The corrections below do not directly affect the text in the original Notice, but they provide important information.

The Census Bureau is merging the Coamo, PR, Urban Cluster and the Salinas—Coco, PR, Urban Cluster to form the Coamo, PR, Urban Cluster with a population of 46,065. This correction is made to resolve a clerical error.

The Census Bureau is adding Hagåtña, GU, to the list of urban clusters. This correction is being made as a result of a correction to the Urban Area Criteria for Census 2000 that changes the designation of Hagåtña, GU, from an urbanized area to an urban cluster.

The Census Bureau is making very minor changes to several urbanized areas and urban clusters by adding census blocks; most of these blocks consist only of water. These changes are being made to resolve clerical errors. The Denver—Aurora, CO; Fort Collins, CO; and Holland, MI, Urbanized Areas are the only urbanized areas that have changes in population; each is listed separately elsewhere in this Notice.

A list of the other affected urbanized areas and urban clusters is available from the Census Bureau at the Census 2000 Urban and Rural Classification Web page at: http://www.census.gov/geo/www/ua/ua_2k.html.

Executive Order 12866

This Notice is not significant for purposes of Executive Order 12866.

Regulatory Flexibility Act

Because a Notice and opportunity for public comment are not required by 5 U.S.C. 553, or any other law, for lists of urbanized areas, this Notice is not subject to the analytical requirements of the Regulatory Flexibility Act. Thus, a Regulatory Flexibility Analysis is not required and none has been prepared (5 U.S.C. 603[a]).

Paperwork Reduction Act

This Notice does not represent a collection of information subject to the requirements of the Paperwork Reduction Act, Title 44, U.S.C., Chapter 35.

Dated: August 20, 2002.
Charles Louis Kincannon,
Director, Bureau of the Census.

[FR Doc. 02-21547 Filed 8-22-02; 8:45 am]

BILLING CODE 3510-07-P